DEPARTMENT OF HEALTH AND HUMAN SERVICES

Administration for Children and Families

Proposed Information Collection Activity; Community Services Block Grant (CSBG) Annual Progress Report (Office of Management and Budget No. 0970-0492)

AGENCY: Office of Community Services, Administration for Children and Families, U.S. Department of Health and Human Services.

ACTION: Request for public comments.

SUMMARY: The Office of Community Services (OCS), Administration for Children and Families (ACF) requests approval of revisions of the Community Services Block Grant (CSBG) Annual Progress Report, (OMB #0970-0492, expiration 6/30/2024). This includes an extension with minor changes to the currently approved Annual Report, a proposed revised version of the Annual Report for use in future fiscal years, the submission of the Tribal Annual Report and Tribal Short Form, and the removal of supplemental funding reports that are no longer in use.

DATES: Comments due within 60 days of publication. In compliance with the requirements of section 3506(c)(2)(A) of the Paperwork Reduction Act of 1995, ACF is soliciting public comment on the specific aspects of the information collection described in this notice.

ADDRESSES: Copies of the proposed collection of information can be obtained and comments may be forwarded by emailing infocollection@acf.hhs.gov. Identify all requests by the title of the information collection.

SUPPLEMENTARY INFORMATION:

Description: Section 678E of the CSBG Act requires States, including the District of Columbia and the Commonwealth of Puerto Rico, and U.S. territories, to annually prepare and submit a report on the measured performance of the State and the eligible entities in the State. Prior to the participation of the State in the performance measurement system, the State shall include in the report any information collected by the State relating to such performance. Each State shall also include in the report an accounting of the expenditure of funds received by the State through the CSBG program, including an accounting of funds spent on administrative costs by the State and the eligible entities, and funds spent by the eligible entities on the direct delivery of local services, and shall include information on the number of and characteristics of clients served under the subtitle in the State, based on data collected from the eligible entities. The State shall also include in the report a summary describing the training and technical assistance offered by the State.

Section 3(b) of the Government Performance and Results (GPRA) Modernization Act of 2010 (GPRAMA) requires OCS, as an office under the U.S. Department of Health and Human Services, to collect performance information for the CSBG. The CSBG Tribal Annual Report enables OCS to collect performance information from Tribal grant recipients. Tribal grant recipients would submit the report annually. This request will support:

1. CSBG Annual Report 2.1—an extension of the current Annual Report form with clarification revisions to be used in Federal fiscal year (FY) 2024 as a requirement to satisfy section 678E of the CSBG Act and then as an optional collection instrument in FY 2025 to support an incremental implementation. An updated version (see next bullet) would become required in FY 2026;

2. CSBG Annual Report 3.0—a substantial revision of the current Annual Report form. This updated version continues to streamline State administrative information, as well as National Performance Indicators for individuals and families as reported by eligible entities. The proposed revisions seek to lessen the burden of the previous iteration of the report by decreasing the amount of data points collected, clarifying data points by using clearer language, removing items not pertinent to annual report data collection, and improving data points to reflect industry standards in measuring the reduction of poverty. This revision would be an optional collection instrument in FY 2025 to support incremental implementation and minimize burden to the public and would become the required sole collection instrument in FY 2026;

3 CSBG Annual Report 3.0 Tribal Annual Report—a modified annual report, derived from the above described CSBG Annual Report 3.0, for CSBG directly funded Tribal grantees receiving more than $50,000. Tribes would be required to report using the Tribal Annual Report to fulfill FY 2024- FY 2026 reporting requirements due each year on March 31; and

4. CSBG Annual Report 3.0 Tribal Short Form—a Tribal short form also derived from Annual Report 3.0. This would be required for use by Tribes directly funded by CSBG below the $50,000 funding threshold beginning in FY 2025. Both the Tribal Annual Report and Tribal Short Form were developed using the revisions of the CSBG Annual Report to provide a comparable reporting schema for directly funded CSBG Tribes commiserate with their funding levels to minimize burden while collecting performance data. Tribes receiving less than $50,000 annual would be required to report using the Tribal Short Form to fulfill FY 2024-FY 2026 reporting requirements due each year on March 31.

5. Supplemental Funding Reports—the discontinuation of the Annual Report Form for the Coronavirus Aid, Relief, and Economic Security (CARES) Act and CSBG Disaster Supplemental Funding. These supplemental funding requests are no longer in use.

Copies of the proposed collections of information can be obtained by visiting: http://www.acf.hhs.gov/programs/ocs/programs/csbg.

Respondents: State governments, including the District of Columbia, the Commonwealth of Puerto Rico, U.S. territories, directly funded federally and State-recognized Tribes and CSBG eligible entities.

Annual Burden Estimates

Estimated Burden—FY24

In FY24, States and Tribal grant recipients would be required to complete the current versions of the Annual Reports.

Instrument | Total number of respondents | Total number of responses per respondent | Average burden hours per response | Annual burden hours
CSBG Annual Report 2.1 (States) | 56 | 1 | 198 | 11,088
CSBG Annual Report 2.1(Eligible Entities) | 1000 | 1 | 493 | 493,000
CSBG Tribal Annual Report | 24 | 1 | 111 | 2,664
CSBG Tribal Annual Report Short Form | 30 | 1 | 40 | 1,200
FY24 Total Annual Burden Estimates: |  |  |  | 507,952

Estimated Burden—FY25

In FY25, States would have the option to complete the current versions of the Annual Report or the revised version (CSBG Annual Report 3.0). Burden estimates for States and eligible entities assume the greatest number based on the option provided to utilize either reporting schema. Tribal grant recipients would continue to use the current versions.

Instrument | Total number of respondents | Total number of responses per respondent | Average burden hours per response | Annual burden hours
CSBG Annual Report 2.1 (States) | 56 | 1 | 198 | 11,088
CSBG Annual Report 2.1(Eligible Entities) | 1000 | 1 | 493 | 493,000
CSBG Annual Report 3.0 (States) | 56 | 1 | 80 | 4,480
CSBG Annual Report 3.0(Eligible Entities) | 1000 | 1 | 260 | 260,000
CSBG Tribal Annual Report | 24 | 1 | 111 | 2,664
CSBG Tribal Annual Report Short Form | 30 | 1 | 40 | 1,200
FY25 Total Annual Burden Estimates: |  |  |  | 772,432

Estimated Burden—FY26

In FY26, States would be required to complete the revised version of the Annual Report (CSBG Annual Report 3.0). Tribal grant recipients would continue to use the current versions.

Instrument | Total number of respondents | Total number of responses per respondent | Average burden hours per response | Annual burden hours
CSBG Annual Report 3.0 (States) | 56 | 1 | 80 | 4,480
CSBG Annual Report 3.0(Eligible Entities) | 1000 | 1 | 260 | 260,000
CSBG Tribal Annual Report | 24 | 1 | 111 | 2,664
CSBG Tribal Annual Report Short Form | 30 | 1 | 40 | 1,200
FY26 Total Annual Burden Estimates: |  |  |  | 268,344

Total Estimated Burden Over Three Years

Fiscal year | Estimated annual burden
2024 | 507,952
2025 | 772,432
2026 | 268,344
Total: | 1,548,728

Comments: The Department specifically requests comments on the following:

1. Whether the proposed collection of information is necessary for the proper performance measurement of Federal, State, or local agencies.

2. The quality of the information to be collected.

3. The clarity of the information to be collected.

4. Does the information to be collected produce significant burden? If so, how could the burden be minimized on respondents, including through the use of automated collection techniques or other forms of technology?

5. The accuracy of the agency's estimate of the burden of the proposed collection of information.

6. What, if any, additions, revisions, or modifications to the information collection would you suggest?

Consideration will be given to comments and suggestions submitted within 60 days of this publication.

Authority: 112 Stat. 2729; 42 U.S.C. 9902(2)

Mary C. Jones,
ACF/OPRE Certifying Officer.

[FR Doc. 2024-08549 Filed 4-19-24; 8:45 am]

BILLING CODE 4184-27-P